DEPARTMENT OF HEALTH AND HUMAN SERVICES

Administration for Community Living

Intent To Award a Supplement for the Lifespan Respite Program: Special Projects To Strengthen Program Development, Implementation and Sustainability

ACTION: Notice.

SUMMARY: The Administration for Community Living (ACL) announces the intent to award a single-source supplement to the current cooperative agreement held by the Center for Health Policy Development.

FOR FURTHER INFORMATION CONTACT: For further information or comments regarding this program supplement, contact Lori Stalbaum, U.S. Department of Health and Human Services, Administration for Community Living, Administration on Aging, Office of Supportive and Caregiver Services: telephone (202) 795-7444; email lori.stalbaum@acl.hhs.gov.

SUPPLEMENTARY INFORMATION: The primary objective of this project is to complement the work of the Lifespan Respite Technical Assistance and Resource Center (TARC) funded in FY 2020 (42 U.S.C. 300ii-2: National Lifespan Respite Resource Center) and, based on the forthcoming National Family Caregiving Strategy, focus on improving access to respite services, workforce capacity, and the role of natural supports, which will be a likely focus of attention nationwide following the dissemination of the Family Caregiving Advisory Council's National Family Caregiving Strategy.

1. Workforce Development: Develop, test and scale a respite workforce recruitment, training and retention program to better meet the respite needs of culturally diverse, urban, suburban, rural, or frontier families, particularly in light of the impact of the COVID-19 pandemic on the workforce;

2. State-based respite planning: Develop and field test a state-based framework and roadmap for respite system planning and development, which ties to the forthcoming National Family Caregiving Strategy; and

3. Natural supports: Enhance approaches to help caregivers and families develop or strengthen their own natural support systems to include respite and other supports

The original FY 2020 award was in the amount of $562,737 for a three-year fully funded project. The administrative supplement for FY 2021 will be in the amount of $183,000, bringing the total award for the project to $745,737.

The additional funding will not be used to begin new projects, but to expand existing activities under the existing grant. Specifically, supplemental funds will be used to:

1. Increase the number of states that will participate in the upcoming pilot project to field test a competency-based, entry-level respite provider-training curriculum and recruitment campaign. This also includes the option to request additional funding for increased administrative and management oversight; the provision of stipends, if necessary; and increased technical assistance to the pilot states.

2. Enhance documentation and reporting on the pilot project, which could include reports, journal articles, or blogs on pre- and post-pilot work. For example, topics may include, but are not limited to:

a. Detailing the methodology for developing the core competencies being piloted from conception to pilot implementation; and

b. Documenting state successes as a part of the pilot program and/or detailing findings, positive or negative, learned from the one-year pilot.

3. Expand/enhance the respite care tracking (mapping) system that will be available to state program policy personnel to allow them ready access to the findings of the state scans of respite programs and services and build on case studies being developed under this grant program.

4. Expand and enhance the planned communication and information dissemination strategy to reach larger audiences of potential users of the materials developed under this project.

Program Name: Lifespan Respite Care Program: Promoting Best Practices, Building State Capacity.

Recipient: Center for Health Policy Development.

Period of Performance: The supplement award will be issued in the second year of this three-year, fully funded, project scheduled to be completed on September 29, 2023.

Total Award Amount: $562,737 in FY 2020.

Award Type: Cooperative Agreement Supplement.

Statutory Authority: The statutory authority for grants under this program announcement is contained in Title XXIX of the Public Health Service Act (42 U.S.C. 300ii-1: Lifespan Respite Care Grants and Cooperative Agreements), as amended by the Public Health Service Act Public Law 109-442. (Catalog of Federal Domestic Assistance 93.072).

Basis for Award: The Lifespan Respite Care Program: Special Projects to Strengthen Program Development, Implementation and Sustainability is currently funded to carry out the objectives of this project for the period of September 30, 2020 through September 29, 2023. Since project implementation began in late 2020, the grantee has accomplished a great deal. The supplement will enable the grantee to carry their work even further, reaching more states with workforce development assistance, information dissemination, direct technical assistance and tracking of state innovations and advancements in respite service design and delivery. The additional funding will not be used to begin new projects or activities.

Dated: August 25, 2021.
Alison Barkoff,
Acting Administrator and Assistant Secretary for Aging.

[FR Doc. 2021-18748 Filed 8-30-21; 8:45 am]

BILLING CODE 4154-01-P